DEPARTMENT OF ENERGY

Federal Energy Regulatory Commission

Notice of Public Meetings Soliciting Comments on the Draft Environmental Impact Statement for the Shawmut Hydroelectric Project, Lockwood Hydroelectric Project, Hydro-Kennebec Hydroelectric Project, and Weston Hydroelectric Project

| Project No.
Brookfield White Pine Hydro, LLC | 2322-069; 2322-071; and 2325-100
Merimil Limited Partnership | 2574-092
Hydro-Kennebec, LLC | 2611-091

In accordance with the National Environmental Policy Act of 1969 ¹ and the Federal Energy Regulatory Commission's (Commission) regulations, 18 CFR part 380, Commission staff issued a Notice of Availability of the Draft Environmental Impact Statement (EIS) for the Shawmut Hydroelectric Project (FERC No. 2322), Lockwood Hydroelectric Project (FERC No. 2574), Hydro-Kennebec Hydroelectric Project (FERC No. 2611), and Weston Hydroelectric Project (FERC No. 2325) on March 28, 2024. That notice set a deadline of June 4, 2024, for filing written comments on the draft EIS and contained specific instructions on how to file comments electronically or to mail written comments to the Commission. In addition to or in lieu of filing written comments, you are invited to attend public meetings being held by Commission staff for the purpose of receiving comments on the draft EIS. At the meetings, resource agency personnel, non-governmental organizations, Native American Tribes, and other interested persons can provide oral and written comments and recommendations regarding the draft EIS. The meetings will be recorded by a court reporter, and all statements (verbal and written) will become part of the Commission's public record for the project.

¹ National Environmental Policy Act of 1969, amended (Pub. L. 91-190. 42 U.S.C. 4321-4347, as amended by Pub. L. 94-52, July 3, 1975, Pub. L. 94-83, August 9, 1975, Pub. L. 97-258, § 4(b), September 13, 1982, Pub. L. 118-5, June 3, 2023).

All interested individuals and entities are invited to attend one or both of the public meetings. The dates and times of the public meetings are listed below.

Evening Meeting

Date: Tuesday, May 21, 2024.

Time: 7:00 p.m. to 9:00 p.m. Eastern Daylight Time.

Location: Thomas College, Summit Room, 180 West River Road, Waterville, Maine 04901.

Daytime Meeting

Date: Wednesday, May 22, 2024.

Time: 10:00 a.m. to 12:00 p.m. Eastern Daylight Time.

Location: Augusta Civic Center, Fort Western, Arnold, and Howard Rooms, 76 Community Drive, Augusta, Maine 04330.

Commission staff will be moderating the meetings. The meetings will begin promptly at their respective start times listed above. At the start of the meeting, staff will provide further instructions regarding the meeting setup, agenda, and how participants can provide their comments and questions during the meeting. Oral comments will initially be limited to five minutes in duration. These meetings are posted on the Commission's calendar located on the internet at https://www.ferc.gov/news-events/events along with other related information.

For further information, contact Marybeth Gay at Marybeth.gay@ferc.gov or 202-502-6125, or Matt Cutlip at Matt.Cutlip@ferc.gov or 503-552-2762.

Dated: April 12, 2024.
Debbie-Anne A. Reese,
Acting Secretary.

[FR Doc. 2024-08324 Filed 4-17-24; 8:45 am]

BILLING CODE 6717-01-P